NUCLEAR REGULATORY COMMISSION

[NRC-2019-0257]

Information Collection: Nondiscrimination in Federally Assisted Programs or Activities Receiving Assistance From the Commission

AGENCY: Nuclear Regulatory Commission.

ACTION: Notice of submission to the Office of Management and Budget; request for comment; extension of comment period.

SUMMARY: On October 14, 2020, the U.S. Nuclear Regulatory Commission (NRC) solicited comments on “Information Collection: Nondiscrimination in Federally Assisted Programs or Activities Receiving Assistance from the Commission.” The public comment period was originally scheduled to close on November 13, 2020. The NRC has decided to extend the public comment period to allow more time for members of the public to develop and submit their comments, including comments on the NRC Form 782, “Complaint Form.” The form has been revised to include an updated Privacy Act Statement.

DATES: The due date of comments requested in the document published on October 14, 2020 (85 FR 65080) is extended. Comments should be filed no later than December 14, 2020. Comments received after this date will be considered, if it is practical to do so, but the Commission is able to ensure consideration only for comments received on or before this date.

ADDRESSES: Written comments and recommendations for the proposed information collection should be sent within 30 days of publication of this notice to https://www.reginfo.gov/public/do/PRAMain. Find this particular information collection by selecting “Currently under Review—Open for Public Comments” or by using the search function.

For additional direction on obtaining information and submitting comments, see “Obtaining Information and Submitting Comments” in the SUPPLEMENTARY INFORMATION section of this document.

FOR FURTHER INFORMATION CONTACT: David Cullison, Office of the Chief Information Officer, telephone: 301-415-2084, email: Infocollects.Resource@nrc.gov, U.S. Nuclear Regulatory Commission, Washington DC 20555-0001.

SUPPLEMENTARY INFORMATION:

I. Obtaining Information and Submitting Comments

A. Obtaining Information

Please refer to Docket ID NRC-2019-0257 when contacting the NRC about the availability of information for this action. You may obtain publicly available information related to this action by any of the following methods:

• Federal rulemaking website: Go to https://www.regulations.gov and search for Docket ID NRC-2019-0257.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The supporting statement, burden spreadsheet, and NRC Forms 781, and revised NRC Form 782 are available in ADAMS under Accession Nos. ML20224A170, ML20224A168, ML20224A166, and ML20308A433.

• NRC's Clearance Officer: A copy of the collection of information and related instructions may be obtained without charge by contacting the NRC's Clearance Officer, David Cullison, Office of the Chief Information Officer, U.S. Nuclear Regulatory Commission, Washington, DC 20555-0001; telephone: 301-415-2084; email: Infocollects.Resource@nrc.gov.

• Attention: The PDR, where you may examine and order copies of public documents is currently closed. You may submit your request to the PDR via email at PDR.Resource@nrc.gov or call 1-800-397-4209 between 8:00 a.m. and 4:00 p.m. (EST), Monday through Friday, except Federal holidays.

B. Submitting Comments

The NRC encourages electronic comment submission through the Federal Rulemaking website (https://www.regulations.gov). Please include Docket ID NRC-2019-0257 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On October 14, 2020 (85 FR 65080), the NRC solicited comments on “Information Collection: Nondiscrimination in Federally Assisted Programs or Activities Receiving Assistance from the Commission.” Under the provisions of the Paperwork Reduction Act of 1995 (44 U.S.C. Chapter 35), the NRC recently submitted a renewal of an existing collection of information to OMB for review entitled, 10 CFR part 4, “Nondiscrimination in Federally Assisted Programs or Activities Receiving Assistance from the Commission.” The NRC hereby informs potential respondents that an agency may not conduct or sponsor, and that a person is not required to respond to, a collection of information unless it displays a currently valid OMB control number. The public comment period was originally scheduled to close on November 13, 2020. The NRC has decided to extend the public comment period on this document until December 14, 2020, to allow more time for members of the public to submit their comments because the NRC Form 782, “Complaint Form” has been updated to include a revised Privacy Act Statement.

Dated: November 9, 2020.
For the Nuclear Regulatory Commission.
David C. Cullison,
NRC Clearance Officer, Office of the Chief Information Officer.

[FR Doc. 2020-25158 Filed 11-12-20; 8:45 am]

BILLING CODE 7590-01-P